Title 3—

The President

Proclamation 7749 of January 9, 2004

National Mentoring Month, 2004

By the President of the United States of America

A Proclamation

Mentoring reflects the great strength of America—the heart and soul of the American people. During National Mentoring Month, we recognize the dedicated individuals who volunteer their time to mentor young people, and we encourage more citizens to give back to their communities as mentors.

Mentors are friends, teachers, and role models. They open doors of opportunity, convey values, and help provide the stability and encouragement that young people need to succeed. By spending time with a child and showing compassion and guidance, a mentor can profoundly affect a young life. Research shows that adolescents who have an adult mentor are far less likely to engage in high-risk behaviors. Mentoring relationships create continuing cycles of hope and promise, as they not only provide positive influences for individual children, but also strengthen families and communities.

My Administration is working to expand mentoring and other volunteer activities across America. Through the USA Freedom Corps, we are promoting volunteer service and offering our citizens more opportunities to help others. We are also supporting faith-based and community organizations, including many who sponsor mentoring programs. In total, more than 63 million Americans volunteered in their communities over the past year—approximately 4 million more than the previous year.

The Department of Education will use Federal funds to work with national youth-serving organizations, independent community groups, and local education agencies to develop, expand, and strengthen school-based mentoring programs for disadvantaged middle school students. In addition, the Department of Health and Human Services, the Department of Justice, and other agencies will offer grants to help youth- serving organizations recruit and train adult mentors for nearly 100,000 children whose parents are incarcerated.

These efforts are an important part of our ongoing work to ensure that every child can realize the great promise of America. Every life has value and potential, and all deserve the opportunity to have a bright future. By supporting the individuals and organizations involved in mentoring and by encouraging more citizens to participate in their good works, we can transform America, one heart and one soul at a time.

NOW, THEREFORE, I, GEORGE W. BUSH, President of the United States of America, by virtue of the authority vested in me by the Constitution and laws of the United States, do hereby proclaim January 2004 as National Mentoring Month. I call upon the people of the United States to recognize the importance of mentoring, to look for opportunities to serve as mentors in their communities, and to celebrate this month with appropriate activities and programs.

IN WITNESS WHEREOF, I have hereunto set my hand this ninth day of January, in the year of our Lord two thousand four, and of the Independence of the United States of America the two hundred and twenty-eighth.

B

[FR Doc. 04-956

Filed 1-13-04; 9:09 am]

Billing code 3195-01-P